DEPARTMENT OF TRANSPORTATION

Federal Aviation Administration

14 CFR Part 71

[Docket No. FAA-2018-0713; Airspace Docket No. 18-AWP-10]

RIN 2120-AA66

Amendment of Multiple Air Traffic Service (ATS) Routes; Western United States

AGENCY: Federal Aviation Administration (FAA), DOT.

ACTION: Final rule.

SUMMARY: This action modifies two jet routes (J-65 and J-110) and two domestic VHF Omnidirectional Range (VOR) Federal airways (V-23 andV-230) in the Western United States. The modifications are necessary due to the planned decommissioning of Clovis, CA, VOR portion of the VOR/Tactical Air Navigation (VORTAC) navigation aid (NAVAID), which provides navigation guidance for portions of the affected air traffic service (ATS) routes. The Clovis, CA, VOR is being decommissioned as part of the FAA's VOR Minimum Operational Network (MON) program. Federal airway V-165, published in the Notice of Proposed Rulemaking, requires more coordination and is removed from this rule.

DATES: Effective date 0901 UTC, October 10, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to http://www.archives.gov/federal-register/cfr/ibr-locations.html.

FAA Order 7400.11, Airspace Designations and Reporting Points, is published yearly and effective on September 15.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports amending the air traffic service route structure in the western United States to maintain the efficient flow of air traffic.

History

The FAA published a notice of proposed rulemaking for Docket No. FAA-2018-0713 in the Federal Register (83 FR 55308; November 5, 2018), amending 2 jet routes (J-65 and J-110) and 3 Domestic VOR Federal airways (V-23, V-165 and V-230) in the Western United States. Interested parties were invited to participate in this rulemaking effort by submitting written comments on the proposal. No comments were received.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

Differences From the NPRM

This rule has a change from the NPRM. The NPRM proposed to amend route V-165. Due to additional coordination required for flight check satisfaction, V-165 will not be included in this final rule, but will be finalized at a later date.

The Rule

This action amends Title 14 Code of Federal Regulations (14 CFR) part 71 by modifying jet routes J-65 and J-110 and domestic VOR Federal airways V-23 and V-230. The route changes are outlined below.

J-65: J-65 currently extends between the San Antonio, TX, VORTAC to the Seattle, WA, VORTAC. The FAA is removing the segments between the Shafter, CA, VORTAC and the Sacramento, CA, VORTAC, causing a gap in the route. The route stops at the Shafter, CA, VORTAC and resumes at the Sacramento, CA, VORTAC. The unaffected portion of the existing route will remain as charted.

J-110: J-110 currently extends between the Oakland, VA, VOR/DME to the Coyle, NJ, VORTAC. The airway segment between the Oakland, CA, VOR/DME and the Boulder City, NV, VORTAC is removed. The route now starts at the Boulder City, NV, VORTAC and extends to the Coyle, NJ, VORTAC. The unaffected portion of the existing route will remain as charted.

V-23: V-23 currently extends between the Mission Bay, CA, VORTAC and the Whatcom, WA, VORTAC and then to the Canadian Border (approximately 7 miles northwest of the Whatcom, WA, VORTAC). The FAA removed the sections between the Shafter, CA, VORTAC and the Linden, CA, VOR/DME. The route now stops at the FRAME intersection (INT Shafter 338° and Panoche 096° radials) and resumes at the EBTUW intersection (INT Panoche 035° and Linden 141° radials) causing a gap in the route. The unaffected portion of the existing route will remain as charted.

V-230: V-230 currently extends between the intersection of the Big Sur, CA, VORTAC 325° and the Salinas, CA, VORTAC 281° radials to the Mina, NV, VORTAC. The FAA amended the route between the Panoche, CA, VORTAC and the Friant, CA, VORTAC. The new route proceeds from the Panoche, CA, VORTAC to the BLEAR intersection (Panoche 077° and Friant 239° radials) to the Friant, CA, VORTAC. The unaffected portion of the existing route will remain as charted.

All radials in the route descriptions are unchanged and stated in True degrees.

Jet routes are published in paragraph 2004 and domestic VOR Federal airways are published in paragraph 6010(a), of FAA Order 7400.11C dated August 13, 2018, and effective September 15, 2018, which is incorporated by reference in 14 CFR 71.1. The jet routes and domestic VOR Federal airways listed in this document will be subsequently published in the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying two jet routes (J-65 and J-110) and two domestic VOR Federal airways (V-23 and V-230) qualifies for categorical exclusion under the National Environmental Policy Act and its implementing regulations at 40 CFR part 1500, and in accordance with FAA Order 1050.1F—Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 2004 Jet Routes.

J-65 [Amended]

From San Antonio, TX, INT San Antonio 323° and Abilene, TX, 180° radials; Abilene; Chisum, NM; Truth or Consequences, NM; Phoenix, AZ; INT Phoenix 272° and Blythe CA, 096° radials; Blythe; Palmdale, CA; INT Palmdale 310° and Shafter, CA, 140° radials; to Shafter, CA. From Sacramento, CA; Red Bluff, CA; Klamath Falls, OR; to Seattle, WA.

* * * * *

J-110 [Amended]

From Boulder City, NV; Rattlesnake, NM; Alamosa, CO; Garden City, KS; Butler, MO; St. Louis, MO; Brickyard, IN; Bellaire, OH; to Coyle, NJ.

* * * * *

Paragraph 6010(a) Domestic VOR Federal Airways.

V-23 [Amended]

From Mission Bay, CA; Oceanside, CA; 24 miles, six miles wide, Seal Beach, CA; six miles wide, INT Seal Beach 287° and Los Angeles, 138° radials; Los Angeles; Gorman, CA; Shafter, CA; to INT Shafter 338° and Panoche 096° radials. From INT Panoche 035° and Linden 141° radials; Linden, CA; Sacramento, CA; INT Sacramento 346° and Red Bluff, CA, 158° radials; Red Bluff; 58 miles, 95 MSL, Fort Jones, CA; Rogue Valley, OR; Eugene, OR; Battle Ground, WA; INT Battle Ground 350° and Seattle, WA, 197° radials; 21 miles, 45 MSL, Seattle; Paine, WA; Whatcom, WA; via INT Whatcom 290° radial to the United States/Canadian border.

* * * * *

V-230 [Amended]

From INT Big Sur, CA, 325° and Salinas, CA, 281° radials; Salinas; Panoche, CA; INT Panoche 077° and Friant 239° radials; Friant, CA; to Mina, NV. The portion outside the United States has no upper limit.

Issued in Washington, DC, on July 16, 2019.
Rodger A. Dean Jr.,
Manager, Airspace Policy Group.

[FR Doc. 2019-15526 Filed 7-22-19; 8:45 am]

BILLING CODE 4910-13-P